DEPARTMENT OF COMMERCE

National Oceanic and Atmospheric Administration

RIN 0648-XA936

Marine Mammals; File No. 17011

AGENCY: National Marine Fisheries Service (NMFS), National Oceanic and Atmospheric Administration (NOAA), Commerce.

ACTION: Notice; receipt of application.

SUMMARY: Notice is hereby given that NHK Enterprises, Inc., Nature & Science Programs, 5-20 Kamiyama-cho, Ogawa Bldg., Shibuya-ku, Tokyo, Japan has applied in due form for a permit to conduct commercial or educational photography of Eastern North Pacific gray whales (Eschrichtius robustus) and killer whales (Orcinus orca).

DATES: Written, telefaxed, or email comments must be received on or before February 17, 2012.

ADDRESSES: The application and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits and Conservation Division, at the address listed above. Comments may also be submitted by facsimile to (301) 713-0376, or by email to NMFS.Pr1Comments@noaa.gov. Please include File No. 17011 in the subject line of the email comment.

Those individuals requesting a public hearing should submit a written request to the Chief, Permits and Conservation Division at the address listed above. The request should set forth the specific reasons why a hearing on this application would be appropriate.

FOR FURTHER INFORMATION CONTACT: Joselyd Garcia-Reyes or Laura Morse, (301) 427-8401.

SUPPLEMENTARY INFORMATION: The subject permit is requested under the authority of the Marine Mammal Protection Act of 1972, as amended (MMPA; 16 U.S.C. 1361 et seq.), and the regulations governing the taking and importing of marine mammals (50 CFR part 216). Section 104(c)(6) provides for photography for educational or commercial purposes involving non-endangered and non-threatened marine mammals in the wild.

NHK Enterprises requests a photography permit to film gray whale and killer whale interactions in the Aleutian Islands from Unimak Pass to Sand Point, Alaska. Filmmakers plan to obtain footage using a 100-ft boat, a 21-ft aluminum skiff, and a helicopter. Up to 100 gray whales and 300 killer whales may be approached and filmed during the life of the permit. Species that could be incidentally harassed during filming activities include: 60 White-sided dolphins (Lagenorhyncus obliquidens), 20 harbor porpoise (Phocoena phocoena), 60 harbor seals (Phoca vitulina), 40 Northern fur seals (Callorhinus ursinus), and 40 Dall's porpoises (Phocoenoides dalli). Filming would occur over a one month session between April 15th and June 15th. Footage would be used to create a film that would document the hunting behavior of transient killer whales and to document the food chain that develops from this predation. The film would be shared with the Japanese public through television broadcast, Internet broadcast, and other publications (e.g. photographic book), and DVD. The permit would be valid for five years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 11, 2012.
Tammy Adams,
Acting Chief, Permits and Conservation Division, Office of Protected Resources, National Marine Fisheries Service.

[FR Doc. 2012-822 Filed 1-17-12; 8:45 am]

BILLING CODE 3510-22-P